ENVIRONMENTAL PROTECTION AGENCY

40 CFR Part 444

[FRL-6866-7]

RIN 2040-AC23

Effluent Limitations Guidelines, Pretreatment Standards, and New Source Performance Standards for the Commercial Hazardous Waste Combustor Subcategory of the Waste Combustors Point Source Category; Correction

AGENCY: Environmental Protection Agency (EPA).

ACTION: Final rule; technical amendment.

SUMMARY: The Environmental Protection Agency promulgated regulations establishing effluent limitations and pretreatment standards for the Commercial Hazardous Waste Subcategory of the Waste Combustors Point Source Category. The final rule was published in the Federal Register on January 27, 2000. Due to a formatting error, the published text includes two references on the wrong line of text. Also, a formatting error caused part of § 444.12(b)(1) to be misidentified as § 444.12(b)(2). This document places the references in the correct location and removes the incorrect section identification.

DATES: Effective on November 22, 2000.

FOR FURTHER INFORMATION CONTACT: Samantha Lewis, 202-260-7149.

SUPPLEMENTARY INFORMATION: Section 553 of the Administrative Procedure Act, 5 U.S.C. 553(b)(B), provides that, when an agency for good cause finds that notice and public procedure are impracticable, unnecessary or contrary to the public interest, the agency may issue a rule without providing notice and an opportunity for public comment. EPA has determined that there is good cause for making today's rule final without prior proposal and opportunity for comment because the corrections are non-substantive, formatting revisions. Thus, notice and public procedure are unnecessary. EPA finds that this constitutes good cause under 5 U.S.C. 553(b)(B).

Under Executive Order 12866 (58 FR 51735, October 4, 1993), this action is not a “significant regulatory action” and is therefore not subject to review by the Office of Management and Budget. Because the agency has made a “good cause” finding that this action is not subject to notice-and-comment requirements under the Administrative Procedure Act or any other statute, it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of UMRA. This rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant.

This technical correction does not involve technical standards; thus, the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq. ). EPA's compliance with these statutes and Executive Orders for the underlying rule is discussed in the January 27, 2000 Federal Register document.

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefor, and established an effective date of November 22, 2000. EPA will submit a report containing this rule and other required information to the U.S. Senate, the U.S. House of Representatives, and the Comptroller General of the United States prior to publication of the rule in the Federal Register. This action is not a “major rule” as defined by 5 U.S.C. 804(2).

List of Subjects in 40 CFR Part 444

Environmental protection, Hazardous waste, Incineration, Waste treatment and disposal, Water pollution control.

Dated: August 31, 2000.
J. Charles Fox,
Assistant Administrator for Water.

For the reasons set out in the preamble, title 40, chapter I of the Code of Federal Regulations is amended as follows:

1. The authority citation for part 444 continues to read as follows:

Authority: Secs. 301, 304, 306, 307, 308, 402, and 501 of the Clean Water Act, as amended; 33 U.S.C. 1311, 1314, 1316, 1317, 1318, 1342, and 1361.

§ 444.12 [Amended]

2. Section 444.12 is amended by:

a. Removing the paragraph designation for the first paragraph (b)(2) and designating the text as the last two sentences of paragraph (b)(1).

b. Redesignating the table entitled “List of Approved Inorganic Test Procedures” to paragraph (b)(1).

c. Amending the entry “2. Cadmium” in the table to paragraph (b)(1) by transferring “D3557-90(D)” from the entry for ICP/AES to the entry for AA furnace in the 4th column of the table.

d. Amending the entry “11. Zinc” in the table to paragraph (b)(1) by transferring “D4190-82(88)” from the entry for Colorimetric (Dithizone) to the entry for DCP in the 4th column of the table.

[FR Doc. 00-29873 Filed 11-21-00; 8:45 am]

BILLING CODE 6560-50-P